NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 31, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Centers for Medicare & Medicaid Services (DAA-0440-2012-0012, 1 item, 1 temporary item). Master files of an electronic information system containing records related to the utilization and performance of state-run health insurance assistance programs.

2. Department of the Interior, Bureau of Land Management (N1-49-10-1, 4 items, 3 temporary items). Records documenting the wildland fire science grant program, including funded and unfunded grant case files and master files of an electronic information system used to track grants. Proposed for permanent retention are significant final reports created as part of the funded grants.

3. Department of the Interior, Office of the Secretary (DAA-0048-2012-0001, 3 items, 1 temporary item). Records relating to mineral evaluations on Indian lands and other Federal properties. Proposed for permanent retention are reservation-wide mineral evaluations and evaluations for individual Indian land allotments.

4. Department of Transportation, Federal Transit Administration (N1-408-11-21, 3 items, 2 temporary items). Records of the Office of Management and Planning, including administrative correspondence and supporting documents related to management planning programs. Proposed for permanent retention are management planning files.

5. Federal Communications Commission, Wireline Competition Bureau, (N1-173-11-1, 4 items, 4 temporary items). Master files of an electronic system used to collect information to evaluate and encourage deployment of advanced telecommunications capability to all Americans.

6. Federal Communications Commission, Media Bureau, (N1-173-11-2, 1 item, 1 temporary item). Records consist of a franchising certification forms that represent a continuing permit for local franchising authorities, such as local governments, to regulate cable operators.

7. Federal Communication Commission, Media Bureau (N1-173-11-5, 3 items, 3 temporary items). Certification requests and related documentation allowing telephone companies to use their infrastructure to provide cable-like video service to subscribers.

8. Federal Housing Finance Agency, Agency-wide (N1-543-11-1, 49 items, 35 temporary items). Comprehensive records schedule covering all aspects of agency work. Proposed for permanent retention are records documenting significant agency functions and oversight activities.

9. Office of the Director of National Intelligence, Office of the Associate Director of National Intelligence and Chief Information Officer (N1-576-10-1, 27 items, 18 temporary items). Records related to general internal operating procedures, including master files of an electronic information system that tracks workflow, and reference materials. Also included are low-level dispute resolution case files and information technology records typically covered by the General Records Schedule. Proposed for permanent retention are correspondence and master files of an electronic information system used to manage correspondence, records of senior level officials including high level dispute resolution case files, boards and working groups, speeches, program files, calendars, and substantive working papers.

10. National Indian Gaming Commission, Agency-wide (N1-220-12-2, 1 item, 1 temporary item). Independent audit reports submitted to the Commission by gaming operations in order to assess fees.

11. National Wildfire Coordinating Group, Agency-wide (N1-583-12-1, 10 items, 5 temporary items). Draft meeting minutes, agendas, and duplicate publications. Proposed for permanent retention are final approved meeting minutes, agendas, decision memoranda, and publications.

Dated: September 24, 2012.
Paul M. Wester, Jr.,
Chief Records Officer for the U.S. Government.

[FR Doc. 2012-24117 Filed 9-28-12; 8:45 am]

BILLING CODE 7515-01-P